DEPARTMENT OF ENERGY

10 CFR Chs. II, III, and X

48 CFR Ch. 9

Fall 2019 Unified Agenda of Regulatory and Deregulatory Actions

AGENCY: Department of Energy.

ACTION: Semi-annual regulatory agenda.

SUMMARY: The Department of Energy (DOE) has prepared and is making available its portion of the semi-annual Unified Agenda of Federal Regulatory and Deregulatory Actions (Agenda), including its Regulatory Plan (Plan), pursuant to Executive Order 12866, “Regulatory Planning and Review,” and the Regulatory Flexibility Act.

SUPPLEMENTARY INFORMATION: The Agenda is a government-wide compilation of upcoming and ongoing regulatory activity, including a brief description of each rulemaking and a timetable for action. The Agenda also includes a list of regulatory actions completed since publication of the last Agenda. The Department of Energy's portion of the Agenda includes regulatory actions called for by statute, including amendments contained in the Energy Independence and Security Act of 2007 (EISA) and the American Energy Manufacturing Technical Corrections Act (AEMTCA), and programmatic needs of DOE offices.

The internet is the basic means for disseminating the Agenda and providing users the ability to obtain information from the Agenda database. DOE's entire Fall 2020 Regulatory Agenda can be accessed online by going to www.reginfo.gov.

Publication in the Federal Register is mandated by the Regulatory Flexibility Act (5 U.S.C. 602) only for Agenda entries that require either a regulatory flexibility analysis or periodic review under section 610 of that Act. The Plan appears in both the online Agenda and the Federal Register and includes the most important of DOE's significant regulatory actions and a Statement of Regulatory and Deregulatory Priorities.

This document of the Department of Energy was signed on December 18, 2020, by William S. Cooper, General Counsel. That document with the original signature and date is maintained by the Department of Energy. For administrative purposes only, and in compliance with requirements of the Office of the Federal Register, the Department of Energy has delegated authority to the undersigned RISC Federal Register Liaison Officer to re-sign and submit the document in electronic format for publication, as an official document of the Department of Energy. This administrative process in no way alters the legal effect of this document upon publication in the Federal Register.

Terri Tolson-Young,
Federal Register Liaison Officer, Regulatory Information Service Center.

Energy Efficiency and Renewable Energy—Proposed Rule Stage
Sequence No. | Title | Regulation Identifier No.
201 | Energy Conservation Standards for General Service Lamps | 1904-AD09
202 | Energy Conservation Standards for Residential Conventional Cooking Products | 1904-AD15
203 | Energy Conservation Standards for Residential Non-Weatherized Gas Furnaces and Mobile Home Gas Furnaces | 1904-AD20
204 | Energy Conservation Standards for Commercial Water Heating Equipment | 1904-AD34

DEPARTMENT OF ENERGY (DOE)

Energy Efficiency and Renewable Energy (EE)

Proposed Rule Stage

201. Energy Conservation Standards for General Service Lamps

E.O. 13771 Designation: Other.

Legal Authority: 42 U.S.C. 6295(i)(6)(A)

Abstract: The U.S. Department of Energy (DOE) will issue a Supplemental Notice of Proposed Rulemaking that includes a proposed determination with respect to whether to amend or adopt standards for general service light-emitting diode (LED) lamps and that may include a proposed determination with respect to whether to amend or adopt standards for compact fluorescent lamps.

Timetable:

Action | Date | FR Cite
Framework Document Availability; Notice of Public Meeting | 12/09/13 | 78 FR 73737
Framework Document Comment Period End | 01/23/14 |
Framework Document Comment Period Extended | 01/23/14 | 79 FR 3742
Framework Document Comment Period Extended End | 02/07/14 |
Preliminary Analysis and Notice of Public Meeting | 12/11/14 | 79 FR 73503
Preliminary Analysis Comment Period Extended | 01/30/15 | 80 FR 5052
Preliminary Analysis Comment Period Extended End | 02/23/15 |
Notice of Public Meeting; Webinar | 03/15/16 | 81 FR 13763
NPRM | 03/17/16 | 81 FR 14528
NPRM Comment Period End | 05/16/16 |
Notice of Public Meeting; Webinar | 10/05/16 | 81 FR 69009
Proposed Definition and Data Availability | 10/18/16 | 81 FR 71794
Proposed Definition and Data Availability Comment Period End | 11/08/16 |
Final Rule Adopting a Definition for GSL | 01/19/17 | 82 FR 7276
Final Rule Adopting a Definition for GSL Effective | 01/01/20 |
Final Rule Adopting a Definition for GSL Including IRL | 01/19/17 | 82 FR 7322
Final Rule Adopting a Definition for GSL Including IRL Effective | 01/01/20 |
Supplemental NPRM | 04/00/21 |

Regulatory Flexibility Analysis Required: Yes.

Agency Contact: John Cymbalsky, Building Technologies Office, EE-5B, Department of Energy, Energy Efficiency and Renewable Energy, 1000 Independence Avenue SW, Washington, DC 20585, Phone: 202 287-1692, Email: john.cymbalsky@ee.doe.gov.

RIN: 1904-AD09

202. Energy Conservation Standards for Residential Conventional Cooking Products

E.O. 13771 Designation: Regulatory.

Legal Authority: 42 U.S.C. 6295(m)(1); 42 U.S.C. 6292(a)(10); 42 U.S.C. 6295(h)

Abstract: The Energy Policy and Conservation Act (EPCA), as amended by Energy Independence and Security Act of 2007 (EISA), requires the Secretary to determine whether updating the statutory energy conservation standards for residential conventional cooking products would yield a significant savings in energy use and is technologically feasible and economically justified. The U.S. Department of Energy (DOE) is reviewing the current standards to make such determination.

Timetable:

Action | Date | FR Cite
Request for Information (RFI) | 02/12/14 | 79 FR 8337
RFI Comment Period End | 03/14/14 |
RFI Comment Period Extended | 03/03/14 | 79 FR 11714
RFI Comment Period Extended End | 04/14/14 |
NPRM and Public Meeting | 06/10/15 | 80 FR 33030
NPRM Comment Period Extended | 07/30/15 | 80 FR 45452
NPRM Comment Period Extended End | 09/09/15 |
Supplemental NPRM | 09/02/16 | 81 FR 60784
SNPRM Comment Period Extended | 09/30/16 | 81 FR 67219
SNPRM Comment Period Extended End | 11/02/16 |
Supplemental NPRM/Proposed Determination | 11/00/20 |

Regulatory Flexibility Analysis Required: Yes.

Agency Contact: Stephanie Johnson, General Engineer, Department of Energy, Energy Efficiency and Renewable Energy, 1000 Independence Avenue SW, Building Technologies Office, EE5B, Washington, DC 20585, Phone: 202 287-1943, Email: stephanie.johnson@ee.doe.gov.

RIN: 1904-AD15

203. Energy Conservation Standards for Residential Non-Weatherized Gas Furnaces and Mobile Home Gas Furnaces

E.O. 13771 Designation: Regulatory.

Legal Authority: 42 U.S.C. 6295(f)(4)(C); 42 U.S.C. 6295(m)(1); 42 U.S.C. 6295(gg)(3)

Abstract: The Energy Policy and Conservation Act, as amended, (EPCA) prescribes energy conservation standards for various consumer products and certain commercial and industrial equipment, including residential furnaces. EPCA also requires the U.S. Department of Energy (DOE) to determine whether more-stringent amended standards would be technologically feasible and economically justified and would save a significant amount of energy. DOE is considering amendments to its energy conservation standards for residential non-weatherized gas furnaces and mobile home gas furnaces in partial fulfillment of a court-ordered remand of DOE's 2011 rulemaking for these products.

Timetable:

Action | Date | FR Cite
Notice of Public Meeting | 10/30/14 | 79 FR 64517
NPRM and Notice of Public Meeting | 03/12/15 | 80 FR 13120
NPRM Comment Period Extended | 05/20/15 | 80 FR 28851
NPRM Comment Period Extended End | 07/10/15 |
Notice of Data Availability (NODA) | 09/14/15 | 80 FR 55038
NODA Comment Period End | 10/14/15 |
NODA Comment Period Reopened | 10/23/15 | 80 FR 64370
NODA Comment Period Reopened End | 11/06/15 |
Supplemental NPRM and Notice of Public Meeting | 09/23/16 | 81 FR 65720
Supplemental NPRM Comment Period End | 11/22/16 |
SNPRM Comment Period Reopened | 12/05/16 | 81 FR 87493
SNPRM Comment Period End | 01/06/17 |
Supplemental NPRM | 06/00/21 |

Regulatory Flexibility Analysis Required: Yes.

Agency Contact: John Cymbalsky, Building Technologies Office, EE-5B, Department of Energy, Energy Efficiency and Renewable Energy, 1000 Independence Avenue SW, Washington, DC 20585, Phone: 202 287-1692, Email: john.cymbalsky@ee.doe.gov.

RIN: 1904-AD20

204. Energy Conservation Standards for Commercial Water Heating Equipment

E.O. 13771 Designation: Regulatory.

Legal Authority: 42 U.S.C. 6313(a)(6)(C)(i) and (vi)

Abstract: Once completed, this rulemaking will fulfill the U.S. Department of Energy's (DOE) statutory obligation under the Energy Policy and Conservation Act, as amended, (EPCA) to either propose amended energy conservation standards for commercial water heaters and hot water supply boilers, or determine that the existing standards do not need to be amended. (Unfired hot water storage tanks and commercial heat pump water heaters are being considered in a separate rulemaking.) DOE must determine whether national standards more stringent than those that are currently in place would result in a significant additional amount of energy savings and whether such amended national standards would be technologically feasible and economically justified.

Timetable:

Action | Date | FR Cite
Request for Information (RFI) | 10/21/14 | 79 FR 62899
RFI Comment Period End | 11/20/14 |
NPRM | 05/31/16 | 81 FR 34440
NPRM Comment Period End | 08/01/16 |
NPRM Comment Period Reopened | 08/05/16 | 81 FR 51812
NPRM Comment Period Reopened End | 08/30/16 |
Notice of Data Availability (NODA) | 12/23/16 | 81 FR 94234
NODA Comment Period End | 01/09/17 |
Supplemental NPRM/Proposed Determination | 11/00/20 |

Regulatory Flexibility Analysis Required: Yes.

Agency Contact: Catherine Rivest, General Engineer, Department of Energy, Energy Efficiency and Renewable Energy, 1000 Independence Avenue SW, Building Technologies Office, EE-5B, Washington, DC 20585, Phone: 202 586-7335, Email: catherine.rivest@ee.doe.gov.

RIN: 1904-AD34

[FR Doc. 2021-05662 Filed 3-30-21; 8:45 am]

BILLING CODE 6450-01-P